DEPARTMENT OF ENERGY

Federal Energy Regulatory Commission

[P-199-205]

South Carolina Public Service Authority; Notice of Application Ready for Environmental Analysis and Soliciting Comments, Recommendations, Terms and Conditions, and Prescriptions

March 9, 2006.

Take notice that the following hydroelectric application has been filed with the Commission and is available for public inspection.

a. Type of Application: New Major License.

b. Project No.: P-199-205.

c. Date filed: March 15, 2004.

d. Applicant: South Carolina Public Service Authority (SCPSA).

e. Name of Project: Santee Cooper Hydroelectric Project.

f. Location: On the Santee and Cooper Rivers in Berkeley, Calhoun, Clarendon, Orangeburg, and Sumter Counties in South Carolina, about 50 miles north of Charleston and 60 miles southeast of Columbia, South Carolina. The project does not affect federal lands.

g. Filed Pursuant to: Federal Power Act 16 U.S.C. 791(a)-825(r).

h. Applicant Contact: Mr. John Dulude, P.E., South Carolina Public Service Authority, One Riverwood Plaza, P Box 2946101, Moncks Corner, SC 29461-2901, (843) 761-4046.

i. FERC Contact: Monte TerHaar, monte.terhaar@ferc.gov, (202) 502-6035.

j. Deadline for filing comments, recommendations, terms and conditions, and prescriptions is 60 days from the issuance date of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing and is now ready for environmental analysis.

l. Project Description: The existing 118-megawatt (MW) Santee Cooper Project consists of: (1) The 2.2 mile-long Santee Dam on the Santee River; (2) the 1.2 mile-long Pinopolis Dam on the Cooper River; (3) the 5-mile-long Diversion Canal which connects Lake Marion and Lake Moultrie; (4) the Santee Spillway Hydroelectric Station with one 2.0-MW turbine generating 13,823 megawatt-hours (MWh) annually; (5) the Pinopolis Hydroelectric Station with one 8.0-MW turbine and four 27.0-MW turbines for a total installed capacity of 116 MW generating 210,204 MWh annually; (6) the 43-mile-long Lake Marion Reservoir, located on the Santee River; (7) the 12-mile-long Lake Moultrie Reservoir, located on the Cooper River.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via e-mail of new filings and issuances related to this or other pending projects. For assistance, contact FERC Online Support.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

n. Procedural schedule and final amendments: At this time we anticipate preparing one environmental assessment (EA). Recipients will have 30 days to provide the Commission with any written comments on the EA. A final EA may be prepared based on the comments received. The application will be processed according to the following schedule. Revisions to the schedule will be made as appropriate.

Comments, terms and conditions due: May 2006.

Reply comments due: June 2006.

Notice of the Availability of the EA: September 2006.

End of public comment period on EA: October 2006.

Final decision on license: December 2006.

Magalie R. Salas,
Secretary.

[FR Doc. E6-3863 Filed 3-16-06; 8:45 am]

BILLING CODE 6717-01-P